CONSUMER PRODUCT SAFETY COMMISSION

16 CFR Ch. II

Semiannual Regulatory Agenda

AGENCY: U.S. Consumer Product Safety Commission.

ACTION: Semiannual regulatory agenda.

SUMMARY: In this document, the Commission publishes its semiannual regulatory flexibility agenda. In addition, this document includes an agenda of regulatory actions that the Commission expects to be under development or review by the agency during the next year. This document meets the requirements of the Regulatory Flexibility Act and Executive Order 12866. The Commission welcomes comments on the agenda and on the individual agenda entries.

DATES: Comments should be received in the Office of the Secretary on or before January 14, 2016.

ADDRESSES: Comments on the regulatory flexibility agenda should be captioned, “Regulatory Flexibility Agenda,” and be emailed to: cpsc-os@cpsc.gov. Comments may also be mailed or delivered to the Office of the Secretary, U.S. Consumer Product Safety Commission, Room 820, 4330 East West Highway, Bethesda, MD 20814-4408.

FOR FURTHER INFORMATION CONTACT: For further information on the agenda in general, contact Eileen Williams, Office of the General Counsel, U.S. Consumer Product Safety Commission, 4330 East West Highway, Bethesda, MD 20814-4408; ewilliams@cpsc.gov. For further information regarding a particular item on the agenda, consult the individual listed in the column headed, “Contact” for that particular item.

SUPPLEMENTARY INFORMATION: The Regulatory Flexibility Act (RFA) (5 U.S.C. 601 to 612) contains several provisions intended to reduce unnecessary and disproportionate regulatory requirements on small businesses, small governmental organizations, and other small entities. Section 602 of the RFA (5 U.S.C. 602) requires each agency to publish, twice each year, a regulatory flexibility agenda containing a brief description of the subject area of any rule expected to be proposed or promulgated, which is likely to have a “significant economic impact” on a “substantial number” of small entities. The agency must also provide a summary of the nature of the rule and a schedule for acting on each rule for which the agency has issued a notice of proposed rulemaking.

The regulatory flexibility agenda also is required to contain the name and address of the agency official knowledgeable about the items listed. Furthermore, agencies are required to provide notice of their agendas to small entities and to solicit their comments by direct notification or by inclusion in publications likely to be obtained by such entities.

Additionally, Executive Order 12866 requires each agency to publish, twice each year, a regulatory agenda of regulations under development or review during the next year, and the executive order states that such an agenda may be combined with the agenda published in accordance with the RFA. The regulatory flexibility agenda lists the regulatory activities expected to be under development or review during the next 12 months. It includes all such activities, whether or not they may have a significant economic impact on a substantial number of small entities. This agenda also includes regulatory activities that appeared in the spring 2015 agenda and have been completed by the Commission prior to publication of this agenda. Although CPSC, as an independent regulatory agency, is not required to comply with Executive Orders, the Commission does follow Executive Order 12866 with respect to the publication of its regulatory agenda.

The agenda contains a brief description and summary of each regulatory activity, including the objectives and legal basis for each; an approximate schedule of target dates, subject to revision, for the development or completion of each activity; and the name and telephone number of a knowledgeable agency official concerning particular items on the agenda.

Beginning in fall 2007, the Internet became the basic means of disseminating the Unified Agenda. The complete Unified Agenda will be available online at: www.reginfo.gov, in a format that offers users a greatly enhanced ability to obtain information from the agenda database.

Because publication in the Federal Register is mandated for the regulatory flexibility agendas required by the Regulatory Flexibility Act (5 U.S.C. 602), the Commission's printed agenda entries include only:

(1) Rules that are in the agency's regulatory flexibility agenda, in accordance with the Regulatory Flexibility Act, because they are likely to have a significant economic impact on a substantial number of small entities; and

(2) Rules that the agency has identified for periodic review under section 610 of the Regulatory Flexibility Act.

Printing of these entries is limited to fields that contain information required by the Regulatory Flexibility Act's agenda requirements. Additional information on these entries is available in the Unified Agenda published on the Internet.

The agenda reflects an assessment of the likelihood that the specified event will occur during the next year; the precise dates for each rulemaking are uncertain and new information, changes of circumstances or of law may alter anticipated timing. In addition, no final determination by staff or the Commission regarding the need for, or the substance of, any rule or regulation should be inferred from this agenda.

Dated: September 18, 2015.
Todd A. Stevenson,
Secretary, U.S. Consumer Product Safety Commission.

Consumer Product Safety Commission—Prerule Stage
Sequence No. | Title | Regulation Identifier No.
431 | Rule Review of: Standard for the Flammability (Open Flame) of Mattress Sets (Section 610 Review) | 3041-AD47

Consumer Product Safety Commission—Final Rule Stage
Sequence No. | Title | Regulation Identifier No.
432 | Recreational Off-Road Vehicles | 3041-AC78
433 | Standard for Sling Carriers | 3041-AD28

CONSUMER PRODUCT SAFETY COMMISSION (CPSC)

Prerule Stage

431. Rule Review of: Standard for the Flammability (Open Flame) of Mattress Sets (Section 610 Review)

Legal Authority: 5 U.S.C. 1193, Flammable Fabrics Act; 5 U.S.C. 610, Regulatory Flexibility Act

Abstract: The Commission published the Standard for the Flammability (Open Flame) of Mattress Sets in March 2006. The Standard sets open flame performance measures on all mattress sets entered into commerce on or after the effective date in July 2007. The purpose of the rule review is to assess the impact of the rule on small entities and to determine whether the rule should be continued without change, or should be amended or rescinded to make the rule more effective or less burdensome while still maintaining safety objectives. CPSC staff will solicit comments on the rule through a Federal Register notice. Staff will also conduct economic and fire loss data analyses to review the impact and effectiveness of the rule. A staff briefing package to the Commission will follow.

Timetable:

Action | Date | FR Cite
Notice for Comment Published in the Federal Register | 04/03/15 | 80 FR 18218
Comment Period End | 06/02/15
Staff Sends Briefing Package to Commission | 09/00/16

Regulatory Flexibility Analysis Required: Undetermined.

Agency Contact: Lisa Scott, Project Manager, Consumer Product Safety Commission, 5 Research Place, Rockville, MD 20850, Phone: 301 987-2064, Email: lscott@cpsc.gov.

RIN: 3041-AD47

CONSUMER PRODUCT SAFETY COMMISSION (CPSC)

Final Rule Stage

432. Recreational Off-Road Vehicles

Legal Authority: 15 U.S.C. 2051

Abstract: The Commission is considering whether recreational off-road vehicles (ROVs) present an unreasonable risk of injury that should be regulated. ROVs are motorized vehicles having four or more low-pressure tires designed for off-road use and intended by the manufacturer primarily for recreational use by one or more persons. The salient characteristics of an ROV include a steering wheel for steering control, foot controls for throttle and braking, bench or bucket seats, a roll-over protective structure, and a maximum speed greater than 30 mph. On October 21, 2009, the Commission voted (4-0-1) to publish an advance notice of proposed rulemaking (ANPRM) in the Federal Register. The ANPRM was published in the Federal Register on October 28, 2009, and the comment period ended December 28, 2009. The Commission received two letters requesting an extension of the comment period. The Commission extended the comment period until March 15, 2010. Staff conducted testing and evaluation programs to develop performance requirements addressing vehicle stability, vehicle handling, and occupant protection. On October 29, 2014, the Commission voted (3-2) to publish an NPRM proposing standards addressing vehicle stability, vehicle handling, and occupant protection. The NPRM was published in the Federal Register on November 19, 2014. On January 23, 2015, the Commission published a notice of extension of the comment period for the NPRM, extending the comment period to April 8, 2015. Following review of the comments, staff will prepare a final rule briefing package in FY 2016 for Commission consideration.

Timetable:

Action | Date | FR Cite
Staff Sends ANPRM Briefing Package to Commission | 10/07/09
Commission Decision | 10/21/09
ANPRM | 10/28/09 | 74 FR 55495
ANPRM Comment Period Extended | 12/22/09 | 74 FR 67987
Extended Comment Period End | 03/15/10
Staff Sends NPRM Briefing Package to Commission | 09/24/14
Staff Sends Supplemental Information on ROVs to Commission | 10/17/14
Commission Decision | 10/29/14
NPRM Published in Federal Register | 11/19/14 | 79 FR 68964
NPRM Comment Period Extended | 01/23/15 | 80 FR 3535
Extended Comment Period End | 04/08/15
Staff Sends Final Rule Briefing Package to Commission | 09/00/16

Regulatory Flexibility Analysis Required: Yes.

Agency Contact: Caroleene Paul, Project Manager, Consumer Product Safety Commission, Directorate for Engineering Sciences, 5 Research Place, Rockville, MD 20850, Phone: 301 987-2225, Email: cpaul@cpsc.gov.

RIN: 3041-AC78

433. Standard for Sling Carriers

Legal Authority: Pub. L. 110-314, sec 104

Abstract: Section 104 of the Consumer Product Safety Improvement Act of 2008 (CPSIA) requires the Commission to issue consumer product safety standards for durable infant or toddler products. The Commission is directed to assess the effectiveness of applicable voluntary standards, and in accordance with the Administrative Procedure Act, promulgate consumer product safety standards that are substantially the same as the voluntary standard, or more stringent than the voluntary standard if the Commission determines that more stringent standards would further reduce the risk of injury associated with the product. The CPSIA requires that not later than August 14, 2009, the Commission begin rulemaking for at least two categories of durable infant or toddler products and promulgate two such standards every six months thereafter. The Commission proposed a consumer product safety standard for infant sling carriers as part of this series of standards for durable infant and toddler products. On June 13, 2014, staff sent an NPRM briefing package to the Commission. The Commission voted unanimously (3-0) to approve publication of the NPRM in the Federal Register. The NPRM was published in the Federal Register on July 23, 2014. Following review of the comments, staff will prepare a final rule briefing package for the Commission's consideration.

Timetable:

Action | Date | FR Cite
Staff Sends NPRM Briefing Package to the Commission | 06/13/14
Commission Decision to Publish NPRM | 07/09/14
NPRM | 07/23/14 | 79 FR 42724
NPRM Comment Period End | 10/06/14
Staff Sends Final Rule Briefing Package to Commission | 09/00/16

Regulatory Flexibility Analysis Required: Yes.

Agency Contact: Hope Nesteruk, Project Manager, Directorate for Engineering Sciences, Consumer Product Safety Commission, 5 Research Place, Rockville, MD 20850, Phone: 301 987-2579, Email: hnesteruk@cpsc.gov.

RIN: 3041-AD28

[FR Doc. 2015-30672 Filed 12-14-15; 8:45 am]

BILLING CODE 6355-01-P